INTER-AMERICAN FOUNDATION

Agenda for Meeting of the Board of Directors; Sunshine Act

DATE: April 1, 2005; 1 p.m.-4 p.m.

The meeting will be held at the Inter-American foundation, 901 N. Stuart Street, 10th Floor Arlington, Virginia 22203.

The meeting will be closed as provided in 22 CFR Part 1004.4(f) to discuss matters related to the evaluation of candidates for the position of President of the Inter-American Foundation.

1 p.m.—Call to order Begin executive session.

4 p.m.—Adjourn.

Jocelyn Nieva,
Acting General Counsel.

[FR Doc. 05-5893 Filed 3-21-05; 3:54 pm]

BILLING CODE 7025-01-M